DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Tortugas Access Permits.

Form Number(s): None.

OMB Approval Number: 0648-0418.

Type of Request: Regular submission.

Burden Hours: 13.

Number of Respondents: 49.

Average Hours per Response: Applications, 10 minutes; radio call-in/call-out, 2 minutes; and appeals, 1 hour and 30 minutes.

Needs and Uses: NOAA has regulations to implement a Tortugas Ecological Reserve and to regulate activities within the reserve. The rule prohibits fishing, taking of organisms, anchoring, or discharging pollutants by vessels, and by controlling access to the reserve through an access permit. A limited number of mooring buoys is provided to allow access without anchoring. The overall objective is to protect the deepwater coral reef community from being degraded by human activities. The permits have been shown to help enforce access and no-take restrictions. Persons with permits provide notification prior to entering the reserve and when leaving it.

Affected Public: Business or other for-profit organizations; individuals or households; not-for-profit institutions; State, Local or Tribal Government.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 22, 2006.
Gwellnar Banks,
Management Analyst, Office of the Chief Information Officer.

[FR Doc. E6-8214 Filed 5-26-06; 8:45 am]

BILLING CODE 3510-22-P